DEPARTMENT OF COMMERCE

International Trade Administration

[A-423-808]

Stainless Steel Plate in Coils From Belgium; Extension of Final Results of Antidumping Duty Administrative Review

AGENCY: Import Administration, International Trade Administration, Department of Commerce.

EFFECTIVE DATE: July 2, 2001.

FOR FURTHER INFORMATION CONTACT: Elfi Blum or Abdelali Elouaradia, Import Administration, International Trade Administration, U.S. Department of Commerce, 14th Street and Constitution Avenue NW., Washington, DC 20230 at (202) 482-0197 or (202) 482-1374, respectively.

Applicable Statute and Regulations

Unless otherwise indicated, all citations to the statute are references to the provisions effective January 1, 1995, the effective date of the amendments made to the Tariff Act of 1930 (the Act) by the Uruguay Round Agreements Act (URAA). In addition, unless otherwise indicated, all citations to the Department's regulations are to the regulations codified at 19 CFR part 351 (2000).

SUPPLEMENTARY INFORMATION:

Background

On May 21, 1999, the Department published in the Federal Register the antidumping duty order on certain stainless steel plate in coils from Belgium (64 FR 27756). On May 31, 2000, in accordance with 19 CFR 351.213, respondent ALZ and its affiliated U.S. importer TrefilARBED, Inc., and the petitioners, Allegheny Ludlum, AK Steel Corporation (formerly Armco, Inc.), J&L Speciality Steel Inc., North American Stainless, Butler-Armco Independent Union, Zanesville Armco Independent Union, and the United Steelworkers of America, AFL-CIO/CLC (collectively, petitioners), requested a review of the antidumping duty order on certain stainless steel plate in coils from Belgium. On July 7, 2000, we published a notice of “Initiation of Antidumping Review.” See 65 FR 41942. On August 14, September 5, and September 15, 2000, ALZ responded to sections A, B and D, then C, respectively, of the Department's antidumping questionnaire. On October 5, 2000, ALZ submitted a timely request for withdrawal from the administrative review pursuant to section 351.213(d) of the Department's regulations, and requested the return or destruction of its questionnaire responses. On October 20, 2000, the petitioners objected to ALZ's request for the return or destruction of the information submitted in the course of the proceeding. In accordance with the Department's practice, we granted ALZ its request to remove its questionnaire responses from the Department's record. For a detailed discussion regarding the removal of questionnaire responses from the administrative record, see Memorandum to Barbara E. Tillman through Sally Gannon from Abdelali Elouaradia: Return or Destruction of ALZ, N.V. Questionnaire Response, December 19, 2000 (on file in the Department's Central Records Unit, Room B-099). Given that petitioners also requested a review, we continued conducting this administrative review pursuant to section 751(a) of the Act. In light of the petitioners' request to continue the review process, the Department published in the Federal Register the preliminary results of review on February 26, 2001 (66 FR 11559-01), applying adverse facts available in accordance with section 776(b) of the Act to determine ALZ's rate.

Extension of Time Limits for Final Results

The parties in this proceeding have submitted extensive briefs concerning the Department's choice of facts available. In order to consider these comments, it is not practicable to complete this review by the current deadline of June 26, 2001. Therefore, in accordance with section 751(a)(3)(A) of the Act, the Department is extending the time period for issuing the final results of review until no later than October 24, 2001.

This notice is issued and published in accordance with section 751(a)(3)(A) of the Act and § 351.213(h)(2) of the Department's Regulations.

Dated: June 26, 2001.
Joseph A. Spetrini,
Deputy Assistant Secretary, AD/CVD Enforcement Group III.

[FR Doc. 01-16598 Filed 6-29-01; 8:45 am]

BILLING CODE 3510-DS-P